DEPARTMENT OF JUSTICE

Antitrust Division

Notice Pursuant to the National Cooperative Research and Production Act of 1993—The Open Mobile Alliance

Notice is hereby given that, on April 7, 2003, pursuant to section 6(a) of the National Cooperative Research and Production Act of 1993, 15 U.S.C. 4301 et seq. (“the Act”), The Open Mobile Alliance (“OMA”) has filed written notifications simultaneously with the Attorney General and the Federal Trade Commission disclosing changes in its membership status. The notifications were filed for the purpose of extending the Act's provisions limiting the recovery of antitrust plaintiffs to actual damages under specific circumstances. Specifically, 3G LAB Limited, Cambridge, United Kingdom; 724 Solutions, Inc., Toronto, Ontario, Canada; Actix Ltd., London, United Kingdom; Ad Vitam, Pont-Du-Chateau, France; AePona Ltd., Belfast, United Kingdom; Appium Technologies AB, Malmo, Sweden; Appload Nordic AB, Stockholm, Sweden; Bechtel Telecommunications, Frederick, MD; Beep Science AS, Oslo, Norway; British Telecommunications PLC, London, United Kingdom; Cap Gemini Ernst & Young, Paris, France; Cash-U Mobile Technologies Ltd., Netanya, Israel; CELLon France S.A.S., Le mans Cedex 9, France; CellVision AS, Lysaker, Norway; Coremedia AG, Hamburg, Germany; Enea Data AB, Taby, Sweden; Fast Link Communication Corp., Taipei, Taiwan; FastMobile Ltd, Kent, United Kingdom; fg microtec GmbH, Munich, Germany; Huawei Technologies Co.,Ltd, Shenzhen, People's Republic of China; IGEL Co., Ltd., Tokyo, Japan; Innoace Co., Ltd., Seoul, Republic of Korea; InterGrafx, Pasadena, CA; M-Spatial Limited, Cambridge, United Kingdom; Mapinfo Corporation, Troy, NY; Microcell SA, Baar, Switzerland; Miranet AB, Stockholm, Sweden; MobiLab Co., Ltd, Daegu, Korea; Mobile Cohesion, Belfast, United Kingdom; Mobitel D.D., Ljubljana, Slovenia; MontaVista Software, Sunnyvalle, CA; Musiwave, Paris, France; Northstream AB, Solna, Sweden; P-Cube Ltd., Herzliya, Israel; Red Bend, Rosh Ha' ayin, Israel; SBC Technology Resources, Inc., Austin, TX; Smartner Information Systems, Ltd., Helsinki, Finland; Starhub Pte Ltd, Singapore, Singapore; Synthesis AG, Zurich, Switzerland; Telecordia Technologies, Inc., Morristown, NJ; Teltier Technologies, Clark, NJ; Telus Mobility, Scarborough, Ontario, Canada; Tira Wireless, Toronto, Ontario, Canada; Ubiquity Software Corporation, Newport South Wales, United Kingdom; Ulticom, Inc., Mt. Laurel, NJ; VengiTech, Oulu, Finland; Viair, Inc., Seattle, WA; Yomi PLC, Jyvaskyla, Finland; ZTE Corporation, Shenzhen, People's Republic of China; Inventec Electronics (Nanjing) Co., Ltd., Nanjing, People's Republic of China; and Infobank Corporation, Seoul, Republic of Korea have been added as parties to this venture. Ericsson AB, Research Triangle Park, NC has changed its name to Ericsson. FolloWAP, Inc., New York, NY has changed its name to Followap. Logica, Dublin, Ireland has changed its name to LogicaCMG. T-Motion PLC, London, United Kingdom has changed its name to T-Mobile International UK Limited.

The following companies had their memberships cancelled: ACL Wireless Limited, New Delhi, India; Aether Systems, Inc., Owings Mills, MD; ATI Technologies Inc., Thornhill, Ontario, Canada; BlueLabs South AB, Malmo, Sweden; Captaris, Owings Mills, MD; CellPoint AB, Kista, Sweden; Comsys Communications and Signal, Herzelia, Israel; Cybiko Advanced technologies, Bloomingdale, IL; CycleLogic Mobile Solutions, Miami, FL; Denso Corporation, Kariya-shi, Aichi-Ken, Japan; dmates as, Oslo, Norway; Documentum, Inc., Pleasanton, CA; EverInTouch, LTD, Old Coulsdon, Surrey, United Kingdom; EWAP Digital Systems Co., LTD, Beijing, People's Republic of China; Exomi Oy, Herndon, VA; Hillcast Technologies Inc., Austin, TX; ICONA s.p.a., Milan, Italy; Insignia Solutions Inc., Fremont, CA; Locus Portal Corporation, Helsinki, Finland; Malibu Telecom Oy, Espoo, Finland; MediaSolv.com, Inc., San Jose, CA; Mercator Partners, LLC, Concord, MA; Mermit Business Applications Oy, Espoo, Finland; Mobilespring, New York, NY; Niragongo Inc., Herzliya, Israel; Nissan Motor Co., Ltd, Kanagawa, Japan; Racal Instruments, Slough, Berkshire, United Kingdom; Rogers Wireless Inc., Toronto, Ontario, Canada; Softbank Mobile Corp., Tokyo, Japan; Starfish Software, Inc., Scotts Valley, CA; Tahoe Networks, San Jose, CA; Taral Networks, Inc., Kanata, Ontario, Canada; TeleMessage Ltd., Petach Tikvah, Israel; Tircomtek Co., Ltd., Seoul, Republic of Korea; Turkcell, Istanbul, Turkey; Unisys Corporation, Plano, TX; VerdiSoft Corporation, Palo Alto, CA; Vimatix, Inc., Wilmington, DE; WDC Solutions Pvt Ltd., Banagalore, India; whereonearth, London, United Kingdom; and YesMobile Taipei Ltd, Taipei City, Taiwan.

The following companies have resigned: Aspiro AB, Malmo, Sweden; BSQUARE Corporation, Bellevue, WA; Cellnext Solutions Limited, New Delhi, India; Commtag Limited, Cambridge, United Kingdom; Cosilient Technologies Corporation, St. John's Newfoundland, Canada; J-Phone Co., Ltd., Tokyo, Japan; Kalador Entertainment Inc., Delta, British Columbia, Canada; M.I.M.T. AB, Malmo, Sweden; Metrowalker Ltd., Quarry Bay, Hong Kong, Hong Kong-China; NTRU Cryptosystems, Inc., Burlington, MA; Oksijen, Teknoloji Gelistirme ve Bilisim, Istanbul, Turkey; Spirent Communications, Inc., Eatontown, NJ; T-Mobile International UK Limited, London, United Kingdom; T-Mobile UK, Borehamwood, Hertfordshire, United Kingdom; T-Mobile USA, Bellevue, WA; Varetis AG, Munich, Germany; and Vizzavi—Europe, London, United Kingdom.

No other changes have been made in either the membership or planned activity of the group research project. Membership in this group research project remains open, and OMA intends to file additional written notification disclosing all changes in membership.

On March 18, 1998, OMA filed its original notification pursuant to section 6(a) of the Act. The Department of Justice published a notice in the Federal Register pursuant to section 6(b) of the Act on December 31, 1998 (63 FR 72333).

The last notification was filed with the Department on January 16, 2003. A notice for this filing has not yet been published in the Federal Register.

Constance K. Robinson,
Director of Operations, Antitrust Division.

[FR Doc. 03-12220 Filed 5-15-03; 8:45 am]

BILLING CODE 4410-11-M